OFFICE OF PERSONNEL MANAGEMENT

Notice of Submission for Approval: Information Collection 3206-0258; Questionnaire for Public Trust Positions (SF 85P) and Supplemental Questionnaire for Selected Positions (SF 85P-S)

AGENCY: U.S. Office of Personnel Management.

ACTION: 60-Day notice and request for comments.

SUMMARY: Federal Investigative Services (FIS), U.S. Office of Personnel Management (OPM) is notifying the general public and other federal agencies that OPM is seeking Office of Management and Budget (OMB) approval of a revised information collection control number 3206-0258, Questionnaire for Public Trust Positions, Standard Form 85P (SF 85P) and Supplemental Questionnaire for Selected Positions, Standard Form SF 85P-S (SF 85P-S). OPM is soliciting comments for this collection as required by the Paperwork Reduction Act of 1995, (Pub. L. 104-13, 44 U.S.C. chapter 35) as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until May 24, 2016. This process is conducted in accordance with 5 CFR 1320.1.

ADDRESSES: Interested persons are invited to submit written comments on the proposed information collection to the Federal Investigative Services, U.S. Office of Personnel Management, 1900 E Street NW., Washington, DC 20415, Attention: Donna McLeod or by electronic mail at FISFormsComments@opm.gov.

FOR FURTHER INFORMATION CONTACT: A copy of this information collection, with applicable supporting documentation, may be obtained by contacting the Federal Investigative Services, U.S. Office of Personnel Management, 1900 E Street NW., Washington, DC 20415, Attention: Donna McLeod or by electronic mail at FISFormsComments@opm.gov.

SUPPLEMENTARY INFORMATION: Questionnaire for Public Trust Positions, SF 85P and Supplemental Questionnaire for Selected Positions, SF 85P-S, including accompanying releases, housed in a system named e-QIP (Electronic Questionnaires for Investigative Processing), are information collections completed by applicants for, or incumbents of, Federal Government civilian positions, or positions in private entities performing work for the Federal Government under contract (SF 85P only). The collections are used as the basis of information for background investigations to establish that such persons are:

• Suitable for employment or retention in Federal employment in a public trust position or fit for employment or retention in Federal employment in the excepted service when the duties to be performed are equivalent in degree of trust reposed in the incumbent to a public trust position;

• Fit to perform work on behalf of the Federal Government pursuant to the Government contract, when the duties to be performed are equivalent in degree of trust reposed in the individual to a public trust position;

• Eligible for physical and logical access to federally controlled facilities or information systems, when the duties to be performed by the individual are equivalent to the duties performed by an employee in a public trust position.

The SF 85P and SF 85P-S are completed by applicants for, or incumbents of, Federal Government civilian positions, or positions in private entities performing work for the Federal Government under contract. For applicants, the SF 85P and SF 85P-S are to be used only after a conditional offer of employment has been made. The SF 85P-S is supplemental to the SF 85P and is used only as approved by OPM, for certain positions such as those requiring carrying of a firearm. e-QIP (Electronic Questionnaires for Investigations Processing) is a web-based system application that houses the SF 85P and SF 85P-S. A variable in assessing burden hours is the nature of the electronic application. The electronic application includes branching questions and instructions which provide for a tailored collection from the respondent based on varying factors in the respondent's personal history. The burden on the respondent is reduced when the respondent's personal history is not relevant to particular question, since the question branches, or expands for additional details, only for those persons who have pertinent information to provide regarding that line of questioning. Accordingly, the burden on the respondent will vary depending on whether the information collection relates to the respondent's personal history.

OPM proposes new changes to the SF 85P. The proposed changes identified in this notice represent modifications to the last approved version of this collection which were published in a 60-day notice in the Federal Register on December 29, 2010 (Federal Register Notices/Volume 75, Number 249, pages 82095-82097) and in a 30-day notice in the Federal Register on August 20, 2012, (Federal Register Notices/Volume 77, Number 161, pages 50175-50184). A copy of the latest approved version of this collection and the new proposed changes is available upon request, as noted above. The instructional portion of the form will be modified to provide additional explanatory information regarding the collection of the spouse or cohabitant's social security number. OPM will remove instructions that were needed only for persons completing a paper form, as the form is only collected by OPM through electronic means. OPM will request, in section 7, “Your Contact Information” that the respondent provide three contact numbers to facilitate contact between investigative personnel and the respondent; however respondents will be advised that only one number is required. Section 9, “Citizenship” will be expanded to collect additional information to assist in verifying derived citizenship of respondents born outside of the U.S. Section 18, “Relatives” will include additional categories of relatives about which information will be collected, namely “Half-brother, Half-sister, Father-in-law, Mother-in-law, and Guardian” to align the collection with the information required per investigative standards for public trust positions. Section 19, “Foreign Countries You Have Visited” will be amended to clarify that travel solely for U.S. Government business is travel “on official Government orders.” Section 21, “Illegal Use of Drugs and Drug Activity” will include instruction to clarify that drug use or activity illegal under Federal laws must be reported, even if that use or activity is legal under state or local law(s). Changes are proposed in section 26, “Involvement in Non-Criminal Court Actions to collect information regarding the respondent's participation in non-criminal court actions whereas the previous collection was limited to the respondent's participation in such court actions when he or she was the defendant. The general “Authorization for Release of Information” includes clarifying language noting that “other sources of information” from which information is gathered during the investigation may include publically available electronic information, including public posts on social media. The “Fair Credit Reporting Disclosure and Authorization” includes an updated reference to the noted Executive Order.

OPM proposes changes to the SF 85P-S. Question 3, ‘Your Use of Illegal Drugs and Drug Activity” will also include clarifying instruction that drug use or activity illegal under Federal laws must be reported, even if that use or activity is legal under state or local law(s). It is possible that there will be additional changes to conform language on the SF 85P-S to language in similar forms.

This ICR also requests categorizing these forms as common forms. OPM will continue to estimate the burden based on all Federal agencies that submit the SF 85P and SF 85P-S to OPM for investigation. If and when approves the use of common forms, all Federal agencies using these forms not in connection with an OPM investigation may request the use of these common forms without additional 60 or 30 day notice and comment requirements. At that point, each such agency will account for its number of respondents and the burden associated with the agency's use.

Analysis

Agency: Federal Investigative Services, U.S. Office of Personnel Management.

Title: Questionnaire for Public Trust Positions (SF 85P) and Supplemental Questionnaire for Selected Positions (SF 85P-S).

OMB Number: 3206-0258.

Affected Public: The SF 85P and SF 85P-S are information collections completed by applicants for, or incumbents of, Federal Government civilian positions, or positions in private entities performing work for the Federal Government under contract. The SF 85P will be used by the Federal Government in conducting background investigations and reinvestigations of persons under consideration for, or retention of, public trust positions. The form may also be used by agencies in determining whether a subject performing work for, or on behalf of, the Government under a contract, should be deemed eligible for logical or physical access. For applicants, the SF 85P and SF 85P-S are to be used only after a conditional offer of employment has been made. The SF 85P-S is supplemental to the SF 85P and is used only as approved by OPM, for certain positions such as those requiring carrying of a firearm.

Number of Respondents: 112,894 (SF 85P); 11,717 (SF 85P-S).

Estimated Time per Respondent: 155 minutes (SF 85P); 10 minutes (SF 85P-S).

Total Burden Hours: 282,235 (SF 85P); 1,953 (SF 85P-S).

U.S. Office of Personnel Management.
Beth F. Cobert,
Acting Director.

[FR Doc. 2016-06811 Filed 3-24-16; 8:45 am]

BILLING CODE 6325-53-P